DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 9,054,544: ACCESSORY MOUTNING APPARATUS FOR A VEHICLE//Patent No. 9,083,078: UNIVERSAL ANTENNA MOUNTING BRACKET//Patent No. 9,079,211: INTERGRANULAR CORROSION (IGC) AND INTERGRANULAR STRESS CORROSION CRACKING (IGSCC) RESISTANCE IMPROVEMENT METHOD FOR METALLIC ALLOYS//Patent No. 9,080,989: WHISKER MANUFACTURING, DETECTION, RESPONSE, AND COMPOUND MANUFACTURING APPARATUS AND METHOD//Patent No. 9,081,409: EVENT DETECTION CONTROL SYSTEM FOR OPERATING A REMOTE SENSOR OR PROJECTILE SYSTEM//Patent No. 9,083,418: VERSATILE ANTENNA RECEIVED SIGNAL STRENGTH MEASUREMENT SYSTEM NOT AFFECTING PATTERN AND RECEIVER PERFORMANCE.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR Part 404.

Dated: August 28, 2015.
N.A. Hagerty-Ford,
Commander, Judge Advocate General's Corps, U.S. Navy, Federal Register Liaison Officer.

[FR Doc. 2015-22921 Filed 9-10-15; 8:45 am]

BILLING CODE 3810-FF-P